DEPARTMENT OF COMMERCE

National Oceanic and Atmospheric Administration

[RTID 0648-XA655]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council.

DATES: The meetings will be held Monday, December 14, 2020, from 1:30 p.m. to 4 p.m.; Tuesday, December 15, 2020, from 9 a.m. to 5:45 p.m.; Wednesday, December 16, 2020, from 9 a.m. to 4:30 p.m.; and, Thursday, December 17, 2020, from 9 a.m. to 1 p.m. For agenda details, see SUPPLEMENTARY INFORMATION.

ADDRESSES: Due to public health concerns related to the spread of COVID-19 (coronavirus), the Mid-Atlantic Fishery Management Council's December meeting will be conducted by webinar only. This webinar-based meeting replaces the in-person meeting previously scheduled to be held in Baltimore, MD. Please see the Council's website (www.mafmc.org) for log-in procedures.

Council address: Mid-Atlantic Fishery Management Council, 800 N State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Monday, December 14, 2020

Executive Committee (CLOSED)

Ricks E Savage Award.

2021 Implementation Plan

Review and approve 2021 Implementation Plan.

Tuesday, December 15, 2020

SSC Economic Work Group Report

Review and select economic case study for development in 2021.

Council Recusal Process

Update on Habitat Activities

NMFS Habitat Conservation Division review of regional projects of interest, including offshore wind projects and aquaculture and an update on the Regional Offshore Science Alliance.

Scup 2021 Recreation Specifications

Review recent fishery performance and recommendations from the Monitoring Committee and Advisory Panel and adopt recommendations for 2021 federal waters recreational management measures.

Black Sea Bass 2021 Recreational Specifications

Review recent fishery performance and recommendations from the Monitoring Committee and Advisory Panel and recommend federal waters recreational management measures or Conservation Equivalency and associated measures for 2021.

Summer Flounder 2021 Recreational Specifications

Review recent fishery performance and recommendations from the Monitoring Committee and Advisory Panel and recommend Conservation Equivalency or coastwide management and associated measures for 2021.

Bluefish 2021 Recreational Specifications

Review recent fishery performance and recommendations from the Monitoring Committee and Advisory Panel and adopt recommendations for 2021 federal waters recreational management measures.

Bluefish Board Only: Technical Committee Report on Biological Monitoring Program

Review effectiveness of the Addendum 1 sampling design.

Wednesday, December 16, 2020

Recreational Reform Initiative

Update and discuss next steps.

Summer Flounder, Scup, and Black Sea Bass Commercial/Recreational Allocation Amendment

Review and approve joint draft public hearing document for public comment and (Board only) approve draft Commission amendment document for public comment.

Black Sea Bass Commercial State Allocation Amendment and Draft Addendum XXXIII for Final Action

Review public comment summary and AP input and consider for final action.

Thursday, December 17, 2020

Update on Atlantic Right Whale Issues

Preliminary 2019 population estimate; Atlantic Large Whale Take Reduction Plan Draft Environmental Impact Statement and proposed rule; and Draft Batched Biological Opinion.

Business Session

Committee Reports (SSC and Executive Committee); Executive Director's Report; Organization Reports; and Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Authority: 16 U.S.C. 1801 et seq.

Dated: November 20, 2020.
Rey Israel Marquez,
Acting Deputy Director, Office of Sustainable Fisheries, National Marine Fisheries Service.

[FR Doc. 2020-26142 Filed 11-25-20; 8:45 am]

BILLING CODE 3510-22-P